Title 3—

The President

Proclamation 10653 of October 13, 2023

National Character Counts Week, 2023

By the President of the United States of America

A Proclamation

Whenever the First Lady and I travel across America, we witness both the incredible diversity of our country and the essential qualities that hold us all together. Americans possess an optimism that is tested yet resolute; a courage that digs deep when we need it the most; and an unshakable faith in one another, our Nation, and the future we can build together. During National Character Counts Week, we recognize the extraordinary character that resides in the soul of every American and the collective power we wield when we embrace one of our country's most fundamental principles: E pluribus unum—Out of many, one.

Every day, Americans prove that we are a good Nation because we are good people. I have seen firsthand the incredible character of firefighters, police officers, service members, and their families, each of whom sacrifice every day to protect the rest of us. I have seen that very character in nurses and doctors, who are a source of light and hope for so many enduring hard times. I have seen it in artists, scholars, and journalists, who dare to tell the truth of our Nation. I have seen it in the union workers, who fight to make sure all of us get the dignity and respect we deserve. I have seen it in mothers, fathers, and caregivers, who work hard to build a future worthy of their children's greatest dreams. I have seen it in all the teachers who go above and beyond to help students believe in themselves. I have seen it in our country's young people—the most talented, tolerant, and educated generation in history.

Americans with exemplary character abound in our Nation. That is why I have never doubted that America can do great things when we work together. In my first State of the Union Address, I proposed a Unity Agenda that outlined four problems we can solve together as a Nation: beating the opioid epidemic, tackling the mental health crisis, supporting our veterans and their families, and ending cancer as we know it. We have made real progress. Together, we passed a law making it easier for doctors to prescribe effective treatments for opioid use disorder. We passed the Bipartisan Safer Communities Act, making historic changes to gun safety laws and key investments in mental health services. We launched Advanced Research Project Agencies for Health (ARPA-H) to drive breakthroughs in the fight against cancer, Alzheimer's, diabetes, and so much more. We passed the Sergeant First Class Heath Robinson Honoring our PACT Act to ensure that veterans exposed to toxic substances during their military service get the benefits and care they deserve and never have to fight alone.

While we have made strides to unite the Nation around common causes, we have also made it a priority to fight back against forces that divide us and to remove obstacles that limit Americans' ability to realize their full potential. We hosted the “United We Stand” Summit at the White House, where we reaffirmed our commitment to fighting hate and racism and announced new measures to make sure hate has no safe harbor in America. We released a national strategy to end hunger and reduce diet-related disease by 2030, a moral duty we all share. No matter what we are working toward—whether it is addressing the climate crisis, reducing the cost of health care, or rebuilding our economy—respecting the character and dignity of the American people is at the heart of everything we do.

I have often said that America is the only Nation in the world founded on an idea: that we are all created equal and deserve to be treated equally throughout our lives. Though we have never fully lived up to this promise, our national character has ensured we have never fully walked away from it either. Today of all days, let us remember that character is destiny—in our lives and in the life of the Nation—and that the soul of America depends on the souls of all Americans. As we reflect on the very best of our Nation's character, may we recommit to lifting each other up and working together to form a more perfect Union.

NOW, THEREFORE, I, JOSEPH R. BIDEN JR., President of the United States of America, by virtue of the authority vested in me by the Constitution and the laws of the United States, do hereby proclaim October 15 through October 21, 2023, as National Character Counts Week. Now and throughout the year, I encourage all Americans to engage in efforts that honor and express the best attributes of our character, extend the hand of fellowship to their neighbors, and unite in service to their communities.

IN WITNESS WHEREOF, I have hereunto set my hand this thirteenth day of October, in the year of our Lord two thousand twenty-three, and of the Independence of the United States of America the two hundred and forty-eighth.

[FR Doc. 2023-23097

Filed 10-17-23; 8:45 am]

Billing code 3395-F4-P